DEPARTMENT OF THE INTERIOR

National Park Service

National Register of Historic Places; Notification of Pending Nominations

Nominations for the following properties being considered for listing in the National Register were received by the National Park Service before March 22, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-343-1836. Written or faxed comments should be submitted by April 17, 2003.

Carol D. Shull,
Keeper of the National Register of Historic Places.

ARIZONA

Pima County

Binghampton Rural Historic Landscape, approx. jct. of N. Dodge Blvd. and E. River Rd., Tucson, 03000316

Blenman—Elm Historic District, Bounded by Grant, Country Club, Speedway and Campbell, Tucson, 03000318

Catalina Vista Historic District, Bounded by Grant, Tucson Blvd., Elm St., and Campbell Ave., Tucson, 03000317

CALIFORNIA

Monterey County

Monterey County Jail, 142 W. Alisal St., Salinas, 03000337

CONNECTICUT

Litchfield County

March Route of Rochambeau's Army: Ridgebury Road, (Rochambeau's Army in Connecticut, 1780-1782 MPS), Ridgebury Road, from intersection with Old Stagecoach S, Ridgefield, 03000313

New Haven County

Ives—Baldwin House, 474 Baldwin Ave., Meriden, 03000308

New Haven Lawn Club, 193 Whitney Ave., New Haven, 03000309

Norcross Brothers Granite Quarry, Quarry Rd., Branford, 03000315

Windham County

March Route of Rochambeau's Army: Old Canterbury Road, (Rochambeau's Army in Connecticut, 1780-1782 MPS) Old Canterbury Rd: Canterbury Rd. from Jct. with Old Canterbury Rd., Plainfield, 03000310

March Route of Rochambeau's Army: Palmer Road (Rochambeau's Army in Connecticut, 1780-1782 MPS), Palmer Rd, from intersection with Miller Rd. to E of jct. with Pudding Hill Rd., Scotland, 03000311

March Route of Rochambeau's Army: Plainfield Pike (Rochambeau's Army in Connecticut, 1780-1782 MPS), Plainfield Pike from intersection with Industrial Dr., E to jct. with Ledge Hill Rd., Plainfield, 03000312

March Route of Rochambeau's Army: Scotland Road (Rochambeau's Army in Connecticut, 1780-1782 MPS), Scotland Rd., from intersection with Back Rd. to 80 Scotland Rd., Windham, 03000314

MISSOURI

Greene County

College Apartments (Springfield, Missouri MPS AD II), 408 E. Walnut St., Springfield, 03000319I

St. Louis Independent City, North Riverfront Industrial Historic District, Roughly bounded by Dickson, Lewis, O'Fallon, 2nd, Ashley, Biddle and Mississippi River, St. Louis (Independent City), 03000320

MONTANA

Missoula County

Evaro School, 6688 Grooms Rd., Evaro, 03000321

NORTH CAROLINA

Cleveland County

Hull, James Heyward, House, 710 N. Lafayette St., Shelby, 03000338

Dare County

Daniels, John T., House, 960 Burnside Rd., Manteo, 03000339

Durham County

Lakewood Park Historic District, 1601-1907 W. Lakewood Ave., 2001-2112 Chapel Hill Rd., 1406-1601 James St. and 1809-1819 Bivins St., Durham, 03000340

Mecklenburg County

Sykes, Joseph, Brothers Company Building, 1445 S. Mint St., Charlotte, 03000343

New Hanover County

Wilmington Historic District (Boundary Increase), Roughly bounded by Harnett, 7th, 3rd, Howard; Campbell, 9th, 12th, Princess; Dock, Castle 8th, 14th; 9th, Wright, Greenfield, Wilmington, 03000344

Rockingham County

McCollum, Reuben Wallace, House, 2203 S. Scales St., Reidsville, 03000341

Rowan County

Salisbury Railroad Corridor Historic District (Boundary Increase), 300 and 400 blks of N. Lee St., Salisbury, 03000342

OHIO

Athens County

Athens County Infirmary, 13183 OH 13, Millfield, 03000323

Cuyahoga County

Rich, N.J., and Co. Building, 1974 E. 61st St., Cleveland, 03000322

Erie County

Independent Order of Odd Fellows Temple, 231 W. Washington Row, Sandusky, 03000327

Lorain County

Dowtown Oberlin Historic District, Roughly include W and E College St., within 1 blk of S. Main and S. Main from College to approx. Vine St., Oberlin, 03000324

Richland County

Springfield Township School, 3560 Park Ave. W, Ontario, 03000325

OREGON

Linn County

Wigle, Abraham and Mary, House, 34050 Belts Dr., Harrisburg, 03000345

TEXAS

Carson County

Atchison, Topeka and Santa Fe Railway Depot, Panhandle, One Main St., Panhandle, 03000326

Harris County

Pomeroy Homestead, 202 and 204 S. Main St., Pasadena, 03000329

Jones County

Jones County Courthouse, 1100 12th St., Anson, 03000330

Rains County

Rains County Courthouse, 100 E Quitman St., Emory, 03000333

San Patricio County

San Jacinto County Courthouse, #1 TX 150 at Byrd Ave., Coldspring, 03000332

San Saba County

San Saba County Courthouse, 500 E. Wallace, San Saba, 03000328

Tarrant County

South Center Street Historic District, 500-600 blks of S. Center St., Arlington, 03000334

Williamson County

Preslar—Hewitt Building, 321-323 N. Main, Taylor, 03000331

WEST VIRGINIA

Berkeley County

Colston, Edward, House, 1598 Tice Rd., Falling Waters, 03000347

Hancock County

Baker's Fort Massacre Site, 0.5 mi. NW of jct. of WV 2 and WV 208, Newell, 03000336

Jefferson County

Allemong, Christian, House, 35 Hardestry Rd., Summit Point, 03000346

Marion County

Morgan, George Pinkney, House, Cty. 19/3, Rivesville, 03000348

Mercer County

Virginian Railway Yard Historic District, 0.5 mi. N of jct. of WV 20 and RR tracks, Princeton, 03000351

Morgan County

Hovermale, Clarence, House, 167 Wilkes St., Berkeley Springs, 03000350

Wood County

Smith, W.H., Hardware Company Building, 119 3rd St., Parkersburg, 03000349

WISCONSIN

Dane County

East Park Historic Park, 108-324 S. Lynn St., 700-816 Park St., and East Park, Stoughton, 03000335

[FR Doc. 03-7950 Filed 4-1-03; 8:45 am]

BILLING CODE 4310-70-P